NUCLEAR REGULATORY COMMISSION

[Docket No. 72-10 (50-282/306)]

Northern States Power Company, a Minnesota Corporation; Notice of Issuance of Materials License Amendment to SNM-2506 Prairie Island Independent Spent Fuel Storage Installation at the Prairie Island Nuclear Generating Plant Site

The U.S. Nuclear Regulatory Commission (NRC or the Commission) has issued Amendment 7 to Materials License SNM-2506 held by the Northern States Power Company, a Minnesota Corporation (NSPM ¹ or the licensee), authorizing receipt, possession, transfer, and storage of spent fuel at the Prairie Island Independent Spent Fuel Storage Installation (ISFSI) located onsite at its Prairie Island Nuclear Generating Plant site in Goodhue County, Minnesota. This license amendment is effective as of the date of its issuance and shall be implemented within ninety (90) days of the date of issuance.

¹ On September 22, 2008, Nuclear Management Company, LLC (NMC) transferred its operating authority to Northern States Power Company, a Minnesota corporation (NSPM), doing business as Xcel Energy. By letter dated September 3, 2008 (package, ML082240762), NSPM assumed responsibility for actions and commitments previously submitted by NMC.

By application dated March 28, 2008, as supplemented June 26 and August 29, 2008, June 26 and September 28, 2009, January 18, May 4, and July 27, 2010, NSPM requested to amend its ISFSI license and to reformat the license Technical Specifications (TS) for the Prairie Island ISFSI in accordance with 10 CFR part 72. The licensee proposed in the license amendment request (LAR) to modify the TN-40 cask for storage of higher initially enriched and higher burnup fuel. The modified cask is designated the TN-40HT storage cask. This amendment complies with the standards and requirements of the Atomic Energy Act of 1954, as amended (the Act), and the Commission's rules and regulations. The Commission has made appropriate findings as required by the Act and the Commission's rules and regulations in 10 CFR chapter I, which are set forth in the license amendment.

In accordance with 10 CFR 72.46(b)(2), a determination has been made that the amendment does not present a genuine issue as to whether public health and safety will be significantly affected. Therefore, immediate action on the license amendment may be taken and a notice of the action taken will be promptly published in the Federal Register. This Federal Register notice also informs interested persons of the right to request a hearing on whether the action should be rescinded or modified.

Also in connection with this action, the Commission prepared an Environmental Assessment (EA) and a Finding of No Significant Impact (FONSI). The Notice of Availability of the EA and FONSI for Prairie Island ISFSI was published in the Federal Register on December 4, 2009 (74 FR 63798).

In accordance with 10 CFR 2.390 of the NRC's “Rules of Practice,” a copy of the EA and FONSI are available electronically for public inspection in the NRC Public Document Room or from the Publicly Available Records (PARS) component of NRC's document system (ADAMS). ADAMS is accessible from the NRC Web site at http://www.nrc.gov/NRC/ADAMS/index.html (the Public Electronic Reading Room).

Dated at Rockville, Maryland, this 20th day of August 2010.
For the Nuclear Regulatory Commission.
Eric Benner,
Branch Chief, Division of Spent Fuel Storage and Transportation, Office of Nuclear Material Safety and Safeguards.

[FR Doc. 2010-21826 Filed 8-31-10; 8:45 am]

BILLING CODE 7590-01-P